DEPARTMENT OF HEALTH AND HUMAN SERVICES

National Institutes of Health

Submission for OMB Review: Comment Request; National Institutes of Health Construction Grants

SUMMARY: Under the provisions of section 3507(a)(1)(D) of the Paperwork Reduction Act of 1995, the Office of Extramural Research (OER), Office of Extramural Programs (OEP), the National Institutes of Health (NIH) has submitted to the Office of Management and Budget (OMB) a request for review and approval of a revision of the information collection listed below. This proposed revision was previously published in the Federal Register on August 7, 2001 (pages 41251-41252) and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: National Institutes of Health Construction Grants—42 CFR part 52b (Final Rule). Type of Information Collection Request: Revision of No. 0925-0424, expiration date 02/28/2002. Need and Use of the Information Collection: This request is for OMB review and approval of a revision of the information collection and recordkeeping requirements contained in the regulation codified at 42 CFR part 52b. The purpose of the regulation is to govern the awarding and administration of grants awarded by NIH and its components for construction of new buildings and the alteration, renovation, remodeling, improvement, expansion, and repair of existing buildings, including the provision of equipment necessary to make the buildings (or applicable part of the buildings) suitable for the purpose for which it was constructed. The NIH is revising the estimated annual reporting and recordkeeping burden previously approved by OMB is to reflect the increase in the number of construction grants being awarded and administered by NIH. In terms of reporting requirements:

Section 52b.9(b) of the regulation requires the transferor of a facility which is sold or transferred, or owner of a facility, the use of which has changed, to provide written notice of the sale, transfer or change within 30 days. Section 52b.10(f) requires a grantee to submit an approved copy of the construction schedule prior to the start of construction. Section 52b.10(g) requires a grantee to provide daily construction logs and monthly status reports upon request at the job site. Section 52b.11(b) requires applicants for a project involving the acquisition of existing facilities to provide the estimated cost of the project, cost of the acquisition of existing facilities, and cost of remodeling, renovating, or altering facilities to serve the purposes for which they are acquired.

In terms of recordkeeping requirements: Section 52b.10(g) requires grantees to maintain daily construction logs and monthly status reports at the job site. Frequency of Response: On occasion. Affected Public: Not-for-profit institutions. Type of respondents: Grantees. The annual reporting burden is as follows:

Estimated Annual Reporting and Recordkeeping Burden
Applicable section of 42 CFR 52b | Estimated annual number of respondents | Estimated number of responses per respondent | Average burden hours per response | Estimated total annual burden hours
Reporting:
52b.9(b) | 1 | 1 | 0.5 | 0.5
52b.10(f) | (60) | 1 | 1 | 60
52b.10(g) | (60) | 12 | 1 | 720
52b.11(b) | 100 | 1 | 1 | 100
Recordkeeping:
52b.10(g) | (60) | 260 | 1 | 15,600
Total | 101 |  |  | 16,481

The annualized cost to the public, based on an average of 60 active grants in the construction phase, is estimated at: $576,835 (or $35 x16,481). There are no Capital Costs to report, and there are no operating or Maintenance Costs to report.

Request for Comments: Written comments and/or suggestions from the public and affected agencies should address one or more of the following points: (1) Evaluate whether the proposed collection of information and recordkeeping are necessary for the proper performance of the function of the agency, including whether the information will have practical utility; (2) Evaluate the accuracy of the agency's estimate of the burden of the proposed collection of information and recordkeeping, including the methodology and assumptions used; (3) Enhance the quality, utility, and clarity of the information to be collected and the recordkeeping information to be maintained; and (4) Minimize the burden of the collection of information on those who are to respond, including the use of appropriate automated, electronic, mechanical, or other technological collection and recordkeeping techniques of other forms of information technology.

Direct Comments to OMB: Written comments and/or suggestions regarding the item(s) contained in this notice, especially regarding the estimated public burden and associated response time, should be directed to the: Office of Management and Budget, Office of Regulatory Affairs, New Executive Office Building, room 10235, Washington, DC 20503, Attention: Desk Officer for NIH.

FOR FURTHER INFORMATION CONTACT: Jerry Moore, NIH Regulations Officer, Office of Management Assessment, Division of Management Support, National Institutes of Health, 6011 Executive Boulevard, Room 601, MSC 7669, Rockville, Maryland 20852; call 301-496-4607 (this is not a toll-free number) or e-mail your request to jm40z@nih.gov.

Comments Due Date: Comments regarding this information collection are best assured of having full effect if received on or before March 4, 2002.

Dated: January 28, 2002.
Jerry Moore,
Regulations Officer, National Institutes of Health.

[FR Doc. 02-2401 Filed 1-30-02; 8:45 am]

BILLING CODE 4140-01-P